DEPARTMENT OF THE INTERIOR

Bureau of Indian Affairs

Land Acquisitions; Mechoopda Indian Tribe, California

AGENCY: Bureau of Indian Affairs, Interior.

ACTION: Notice of Final Agency Determination to Take Land into Trust under 25 CFR Part 151.

SUMMARY: The Assistant Secretary—Indian Affairs made a final agency determination to acquire approximately 631.05 acres of land into trust for the Mechoopda Indian Tribe of California on March 14, 2008. This notice is published in the exercise of authority delegated by the Secretary of the Interior to the Assistant Secretary—Indian Affairs by 209 Departmental Manual 8.1.

FOR FURTHER INFORMATION CONTACT: George Skibine, Office of Indian Gaming, MS-3657 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On March 14, 2008, the Assistant Secretary—Indian Affairs decided to accept approximately 631.05 acres of land into trust for the Mechoopda Indian Tribe of California under the authority of the Indian Reorganization Act of 1934, 25 U.S.C. 465. The 631.05 acres are located in Butte County, California. The parcel will be used for the purpose of construction and operation of a class II and class III gaming facility.

The real property consists of approximately 631.05 acres situated in the State of California, County of Butte. The legal description of the property is as follows:

Parcel I

All that portion of the east half of the northeast quarter of Section 1, Township 20 North, Range 2 East, M.D.B. & M., lying easterly of U.S. Highway 99E. Excepting therefrom that portion thereof, heretofore conveyed to the State of California by deed recorded July 27, 1951, in Book 575, Page 326, Official Records, recorded October 9, 1974, in Book 1944, Page 64, Official Records and October 9, 1974, in Book 1944, Page 68, Official Records and Parcel 1 of the Grant Deed recorded January 15, 2004, under Butte County Recorder's Serial No. 2004-0002294. APN 041-190-048 (formerly 038-150-026).

Parcel II

The north half of the northwest quarter, the southwest quarter of the northwest quarter and the northwest quarter of the southwest quarter of Section 5, and all that portion of Section 6 lying northeasterly of the Oroville Chico Highway, all in Township 20 North, Range 3 East, M.D.B. & M.

Excepting therefrom said Section 6, that portion conveyed to the State of California by Deeds recorded February 8, 1951 in Book 555, Page 329, Official Records, and July 27, 1951, in Book 575, Page 326, Official Records. Also excepting therefrom that portion conveyed to the State of California by Deed recorded October 9, 1974, in Book 1944, Page 64, Official Records and Parcel 1 of Grant Deed recorded January 15, 2004, under Butte County Recorder's Serial No. 2004-002294. APN 041-190-045 (formerly 041-190-020).

Dated: March 25, 2008.
Carl J. Artman,
Assistant Secretary—Indian Affairs.

[FR Doc. E8-10279 Filed 5-7-08; 8:45 am]

BILLING CODE 4310-4N-P